ENVIRONMENTAL PROTECTION AGENCY

[ER-FRL-6614-3]

Environmental Impact Statements; Notice of Availability

Responsible Agency: Office of Federal Activities, General Information (202) 564-7167 or www.epa.gov/oeca/ofa.

Weekly receipt of Environmental Impact Statements Filed December 26, 2000 Through December 29, 2000 Pursuant to 40 CFR 1506.9.

EIS No. 000465, Final EIS, AFS, ID, Lakeface-Lamb Fuel Reduction Project, To Reduce the Risk of Lethal Fires within a Wildland/Urban Interface, Implementation, Idaho Panhandle National Forests, Priest Lake Ranger District, Bonner County, ID, Due: January 29, 2001, Contact: David Asleson (208) 443-2512.

This Notice of Availability should have appeared in the 12/29/2000 FR. The Official Wait Period began on 12/29/2000 and ends on 01/29/2001.

EIS No. 000466, Draft EIS, AFS, ID, MT, Lemhi Pass National Historic Landmark Management Plan, Implementation, Beaverhead-Deerlodge National Forest, Beaverhead County, MT and Salmon-Challis National Forest, Lemhi County, ID, Due: February 20, 2001, Contact: Katie R. Bump (406) 683-3900.

EIS No. 000467, Final Supplement, AFS, UT, Rhyolite Fuel Reduction Project to the South Spruce Ecosystem Rehabilitation Project, Implementation, Dixie National Forest, Cedar City Ranger District, Iron County, UT, Due: February 05, 2001, Contact: Phillip G. Eisenhauer (435) 865-3200.

EIS No. 000468, Draft Supplement, AFS, UT, Rendezvous Vegetation Management Project to the South Spruce Ecosystem Rehabilitation Project, Implementation, Dixie National Forest, Cedar City Ranger District, Iron and Kane Counties, UT, Due: February 20, 2001, Contact: Phillip G. Eisenhauer (435) 865-3200.

EIS No. 000469, Draft EIS, AFS, MI, Plantation Lakes Vegetation Management Project, Implementation, Ottawa National Forest, Kenton and Ontonagon Ranger Districts, Houghton County, MI, Due: February 20, 2001, Contact: Karen Stevens (906) 884-2411.

EIS No. 000470, Draft EIS, AFS, WI, Boundary Waters Canoe Area Wilderness Fuel Treatment, Implementation, Superior National Forest, Cook County, WI, Due: February 20, 2001, Contact: Joyce Thompson (218) 626-4317.

EIS No. 000471, Draft EIS, USN, FL, Renewal of Authorization to Use Pinecastle Range, Continue Use of the Range for a 20-Year Period, Special Use Permit Issuance, Ocala National Forest, Marion and Lake Counties, FL, Due: February 20, 2001, Contact: Darrell Molzan (843) 820-5796.

EIS No. 000472, Final EIS, SFW, WA, Tacoma Water Green River Water Supply Operations and Watershed Protection Habitat Conservation Plan, Implementation, Issuance of a Multiple Species Permit for Incidental Take, King County, WA, Due: February 5, 2001, Contact: Tim Romanski (360) 753-5823.

Dated: January 02, 2001.
Joseph C. Montgomery,
Director, NEPA Compliance Division, Office of Federal Activities.

[FR Doc. 01-378 Filed 1-4-01; 8:45 am]

BILLING CODE 6560-50-P